Proclamation 10697 of January 12, 2024

Religious Freedom Day, 2024

By the President of the United States of America

A Proclamation

The constitutional right to practice our faiths peacefully and openly is a core tenet of our democracy and helps us fulfill one of our highest aspirations as a Nation: to be a citadel of liberty and a beacon of freedom. On Religious Freedom Day, we renew our pledge to protect that right by ensuring each person of any faith or belief can live out the deepest convictions of their conscience with dignity and respect.

Like so many Americans, faith has sustained me throughout my life—serving as a reminder of both our collective purpose and our responsibilities to one another. But for far too many people today, practicing their faith means facing fear and intimidation. In recent years, hate has been given too much oxygen. This year, in the wake of Hamas' brutal terrorist assault against Israel, we have seen horrific threats and attacks in this country that have both shocked our collective conscience and broken our hearts.

It is in the most challenging times that our commitment to freedom matters most. We must work harder than ever to practice the values that make us who we are. That is why my Administration is working tirelessly to protect and preserve the right to freedom of religion for everyone everywhere.

In 2022, I established a new inter-agency group to counter Antisemitism, Islamophobia, and Related Forms of Bias and Discrimination within the United States. Last May, my Administration released the first-ever United States National Strategy to Counter Antisemitism, which outlines more than 100 new actions we are taking to raise awareness of Antisemitism, protect Jewish communities, counter Antisemitic discrimination, and build solidarity across diverse communities. We are also developing the first-ever United States National Strategy to Counter Islamophobia and Related Forms of Bias and Discrimination in the United States, which will address the scourge of hate against Muslims in America. The strategy will also address hate against Sikh, South Asian, and Arab American communities, among others. Meanwhile, we continue to work with all communities to identify, prevent, and disrupt threats.

Everyone must be free to practice their faith without fear, whether they are gathering for worship, attending a religious school, participating in the activities of other faith-based organizations, or simply walking down the street wearing the symbols of their faith. That is why, working with the Congress, my Administration secured the greatest increase in funding in our history for the physical security of non-profits—including churches, gurdwaras, mosques, synagogues, temples, and other places of worship. In my 2024 Budget proposal to the Congress, I requested that this funding be raised to $360 million, and my Administration works continually to protect places of worship, including through an annual Protecting Places of Worship Week of Action. Through such initiatives, we are providing resources for faith communities and encouraging religious organizations to share their best practices in promoting security with one another.

As a world leader, we are also working to make it possible for people to practice their faith freely and peacefully around the globe. Billions of people worldwide are persecuted for or prevented from freely choosing, practicing, or teaching their faith. Repressive governments and violent extremists continue to reach across borders and target people for their beliefs. We have seen these abhorrent attacks on people of all faiths, including Christians in some countries. That is why, since the beginning of my Administration, we have provided more than $100 million to promote religious freedom and hundreds of millions more to provide humanitarian assistance to victims fleeing religious repression, including genocide. Further, we are denying the entry of goods into the United States that are made with forced labor—an abuse of human rights that is oftentimes associated with the genocide of religious minorities. We have imposed sanctions, visa restrictions, and export controls on actors and entities that are responsible for serious human rights abuses like religious persecution.

On this day, we recognize that the work of protecting religious freedom is never finished. In our quest to build a more perfect Union, may our faiths and beliefs help us heal divisions and bring us together to safeguard this fundamental freedom guaranteed by our Constitution and to ensure that people of all religions or no religion are treated with dignity and respect.

NOW, THEREFORE, I, JOSEPH R. BIDEN JR., President of the United States of America, by virtue of the authority vested in me by the Constitution and laws of the United States, do hereby proclaim January 16, 2024, as Religious Freedom Day.

IN WITNESS WHEREOF, I have hereunto set my hand this twelfth day of January, in the year of our Lord two thousand twenty-four, and of the Independence of the United States of America the two hundred and forty-eighth.

[FR Doc. 2024-01115

Filed 1-18-24; 8:45 am]

Billing code 3395-F4-P